DEPARTMENT OF ENERGY

Federal Energy Regulatory Commission

[Project No. 13318-003]

Swan Lake North Pumped Storage Project; Notice of Meeting

Commission staff will meet with representatives of the Klamath Tribes (Tribes) regarding the proposed Swan Lake North Pumped Storage Project (Project No. 13318-003). The meeting will be held at the location and time listed below:

Klamath Tribes, Tribal Administration Building, 501 Chiloquin Blvd., Chiloquin, OR 97624, Phone: (541) 783-2219, Thursday, March 30, 2017, 1:00 p.m. PDT

Members of the public, intervenors, agencies, and the applicant, in the referenced proceeding may attend this meeting; however, participation will be limited to only tribal representatives and Commission staff. If the Tribes decide to disclose information about a specific location which could create a risk or harm to an archeological site or Native American cultural resource, the public will be excused for that portion of the meeting.¹ If you plan to attend this meeting, please contact Dr. Frank Winchell at the Federal Energy Regulatory Commission. He can be reached at (202) 502-6104.

¹ Protection from public disclosure involving this kind of specific information is based upon 18 CFR 4.32(b)(3)(ii) of the Commission's regulations implementing the Federal Power Act.

Dated: March 1, 2017.
Kimberly D. Bose,
Secretary.

[FR Doc. 2017-04377 Filed 3-6-17; 8:45 am]

BILLING CODE 6717-01-P